DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 17, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Coummunity map repository address
Lincoln County, Georgia and Incorporated Areas
Docket No.: FEMA-B-1861
City of Lincolnton | City Hall, 125 North Peachtree Street, Lincolnton, GA 30817.
Unincorporated Areas of Lincoln County | Lincoln County Courthouse, 210 Humphrey Street, Lincolnton, GA 30817.
Mills County, Iowa and Incorporated Areas
Docket No.: FEMA-B-1859
City of Emerson | City Hall, 410 Manchester Street, Emerson, IA 51533.
City of Glenwood | City Hall, 5 North Vine Street, Glenwood, IA 51534.
City of Hastings | City Hall, 401 Indian Avenue, Hastings, IA 51540.
City of Henderson | City Office, 310 Maple Street, Henderson, IA 51541.
City of Malvern | City Hall, 107 East 4th Street, Malvern, IA 51551.
City of Pacific Junction | City Hall, 407 Lincoln Avenue, Pacific Junction, IA 51561.
City of Silver City | City Hall, 417 Main Street, Silver City, IA 51571.
Unincorporated Areas of Mills County | Mills County Engineer's Office, 403 Railroad Avenue, Glenwood, IA 51534.
Dodge County, Nebraska and Incorporated Areas
Docket No.: FEMA-B-1859
City of Hooper | City Office, 124 North Main Street, Hooper, NE 68031.
Unincorporated Areas of Dodge County | Dodge County Courthouse, 435 North Park Avenue, Fremont, NE 68025.
Passaic County, New Jersey (All Jurisdictions)
Docket Nos.: FEMA-B-1532 and FEMA-B-1800
Borough of Bloomingdale | Municipal Building, Clerk's Office, 101 Hamburg Turnpike, Bloomingdale, NJ 07403.
Borough of Haledon | Municipal Complex, Building Department, 510 Belmont Avenue, Haledon, NJ 07508.
Borough of Hawthorne | Borough Hall, Engineering Department, 445 Lafayette Avenue, Hawthorne, NJ 07506.
Borough of North Haledon | Municipal Building, Construction Office, 103 Overlook Avenue, North Haledon, NJ 07508.
Borough of Pompton Lakes | Municipal Building, 25 Lenox Avenue, Pompton Lakes, NJ 07442.
Borough of Prospect Park | Municipal Building, 106 Brown Avenue, Prospect Park, NJ 07508.
Borough of Ringwood | Municipal Building, Clerk's Office, 60 Margaret King Avenue, Ringwood, NJ 07456.
Borough of Totowa | Municipal Complex, Clerk's Office, 537 Totowa Road at Cherba Place, Totowa, NJ 07512.
Borough of Wanaque | Municipal Building, 579 Ringwood Avenue, Wanaque, NJ 07465.
Borough of Woodland Park | Municipal Building, Code Enforcement Office, 5 Brophy Lane, Woodland Park, NJ 07424.
City of Clifton | City Hall, Engineering Department, 900 Clifton Avenue, Clifton, NJ 07013.
City of Passaic | City Hall, 330 Passaic Street, Passaic, NJ 07055.
City of Paterson | City Hall, Clerk's Office, 155 Market Street, Paterson, NJ 07505.
Township of Little Falls | Township Hall, 225 Main Street, Little Falls, NJ 07424.
Township of Wayne | Township Hall, Engineering Department, 475 Valley Road, Wayne, NJ 07470.
Township of West Milford | Department of Public Works, Administration Building, Engineering Division, 1480 Union Valley Road, West Milford, NJ 07480.
Fairfield County, Ohio and Incorporated Areas
Docket No.: FEMA-B-1851
Unincorporated Areas of Fairfield County | Fairfield County Regional Planning Commission, 210 East Main Street, Lancaster, OH 43130.
Village of Bremen | Village Office, 9090 Marietta Street, Bremen, OH 43107.

[FR Doc. 2019-26247 Filed 12-4-19; 8:45 am]

BILLING CODE 9110-12-P